DEPARTMENT OF TRANSPORTATION

Federal Aviation Administration

[Policy Statement No. PS-ANM100-1982-00038]

FAR 25.723 Energy Absorption Tests

AGENCY: Federal Aviation Administration (FAA), DOT.

ACTION: Notice of cancellation of policy statement.

SUMMARY: The Federal Aviation Administration (FAA) announces the cancellation of Policy Statement Number PS-ANM100-1982-00038. The policy statement is cancelled because it was superseded by an advisory circular (AC) and is no longer necessary.

DATES: This policy statement is cancelled on March 11, 2016.

FOR FURTHER INFORMATION CONTACT: Ian Won, Federal Aviation Administration, Transport Airplane Directorate, Transport Standards Staff, Airframe and Cabin Safety Branch, 1601 Lind Avenue SW., Renton, WA 98057-3356; telephone (425) 227-2145; fax (425) 227-1320; email: Ian.Y.Won@faa.gov.

SUPPLEMENTARY INFORMATION:

Background

On April 13, 1982, the Manager, Transport Airplane Directorate, Aircraft Certification Service, issued Policy Statement Number PS-ANM100-1982-00038, FAR 25.723 Energy Absorption Tests. This policy statement addressed limits of extrapolation of landing gear drop test data.

The FAA issued AC 25.723-1, Shock Absorption Tests, on May 25, 2001, concurrently with Amendment 25-103, which changed the rule, 14 CFR 25.723. The AC addresses the same issue as the older policy statement but reflects the latest rule and is more specific. The FAA intended to cancel the policy when they released AC 25.723-1 but overlooked it.

Cancellation of Policy Statement

As a result of the issuance of AC 25.723-1 and Amendment 25-103, Policy Statement Number PS-ANM100-1982-00038 is no longer in effect and is herewith cancelled.

Issued in Renton, Washington, on March 1, 2016.
Michael Kaszycki,
Acting Manager, Transport Airplane Directorate, Aircraft Certification Service, ANM-100.

[FR Doc. 2016-05531 Filed 3-10-16; 8:45 am]

BILLING CODE 4910-13-P